NATIONAL TRANSPORTATION SAFETY BOARD

Sunshine Act Meetings

TIME AND DATE: 9:30 a.m., Tuesday, October 30, 2012.

PLACE: NTSB Conference Center, 429 L'Enfant Plaza SW., Washington, DC 20594.

STATUS: The one item is open to the public.

Matter To Be Considered

8431A Highway Accident Report—Highway-Railroad Grade Crossing Collision, U.S. Highway 95, Miriam, Nevada, June 24, 2011.

NEWS MEDIA CONTACT: Telephone: (202) 314-6100.

The press and public may enter the NTSB Conference Center one hour prior to the meeting for set up and seating.

Individuals requesting specific accommodations should contact Rochelle Hall at (202) 314-6305 by Friday, October 26, 2012.

The public may view the meeting via a live or archived webcast by accessing a link under “News & Events” on the NTSB home page at www.ntsb.gov.

Schedule updates including weather-related cancellations are also available at www.ntsb.gov.

FOR MORE INFORMATION CONTACT: Candi Bing, (202) 314-6403 or by email at bingc@ntsb.gov.

FOR MEDIA INFORMATION CONTACT: Peter Knudson, (202) 314-6219 or by email at peter.knudson@ntsb.gov.

Dated: October 12, 2012.
Candi R. Bing,
Federal Register Liaison Officer.

[FR Doc. 2012-25762 Filed 10-16-12; 11:15 am]

BILLING CODE 7533-01-P